Title 3—

The President

Proclamation 10865 of November 27, 2024

Thanksgiving Day, 2024

By the President of the United States of America

A Proclamation

This Thanksgiving, as families, friends, and loved ones gather in gratitude, may we all celebrate the many blessings of our great Nation.

Thanksgiving is at the heart of America's spirit of gratitude—of finding light in times of both joy and strife. The Pilgrims celebrated the first Thanksgiving to honor a successful harvest, made possible by the generosity and kindness of the Wampanoag people. On the way to Valley Forge, as General George Washington and his troops continued the fierce struggle for our Nation's independence, they found a moment for Thanksgiving. And amid the fight to preserve our Union during the Civil War, President Abraham Lincoln established Thanksgiving as a national holiday, finding gratitude in the courage of the American people who sacrifice so much for our country.

We are a good Nation because we are a good people. The First Lady and I remain inspired by the everyday Americans who lift this country up and push us forward. Today, so many are among their family and friends, celebrating the love that binds them and creating new traditions that will carry on for generations. To anyone with an empty seat at the dinner table, grieving the loss of a loved one, the First Lady and I hold you in our hearts and prayers.

America is a Nation of promise and possibilities—and that is because, every day, ordinary Americans are doing extraordinary things. Our service members and veterans have given all, risked all, and dared all to keep our Nation free. Our first responders, firefighters, and police officers risk their lives every day to keep the rest of us safe. I can see the best of America in them and in our workers and union leaders, public servants and teachers, doctors and scientists, and all who give their heart and soul to ensuring people are treated with dignity and respect. And I find hope in our Nation's families, who sacrifice so much to achieve the American Dream and build a future worthy of our highest aspirations.

This Thanksgiving—the last one I will declare as President—I express my gratitude to the American people. Serving as President has been the honor of a lifetime. America is the greatest country on Earth, and there is so much to be grateful for. May we celebrate all that unites us—because there is nothing beyond our capacity if we do it together.

NOW, THEREFORE, I, JOSEPH R. BIDEN JR., President of the United States of America, by virtue of the authority vested in me by the Constitution and the laws of the United States, do hereby proclaim Thursday, November 28, 2024, as a National Day of Thanksgiving. I encourage the people of the United States of America to join together and give thanks for the friends, neighbors, family members, and communities who have supported each other over the past year in a reflection of goodwill and unity.

IN WITNESS WHEREOF, I have hereunto set my hand this twenty-seventh day of November, in the year of our Lord two thousand twenty-four, and of the Independence of the United States of America the two hundred and forty-ninth.

[FR Doc. 2024-28461

Filed 12-2-24; 11:15 am]

Billing code 3395-F4-P